INTERNATIONAL TRADE COMMISSION

[Investigation No. 337-TA-1100]

Notice of Commission Determination Not To Review an Initial Determination Granting a Motion for Return of a Bond; Certain Microfluidic Systems and Components Thereof and Products Containing Same

AGENCY: U.S. International Trade Commission.

ACTION: Notice.

SUMMARY: Notice is hereby given that the U.S. International Trade Commission (“Commission”) has determined not to review an initial determination (“ID”) (Order No. 46) of the presiding administrative law judge (“ALJ”), granting respondent Bio-Rad Laboratories, Inc.'s motion for return of the bond it posted during the period of Presidential Review.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On February 21, 2018, the Commission instituted this investigation based on a complaint filed by 10X Genomics, Inc. of Pleasanton, CA (“10X”). 83 FR 7491 (Feb. 21, 2018). The complaint alleged violations of section 337 of the Tariff Act of 1930, as amended, 19 U.S.C. 1337, in the importation into the United States, the sale for importation, or the sale within the United States after importation of certain microfluidic systems and components thereof and products containing same by reason of infringement of one or more claims of U.S. Patent Nos. 9,644,204; 9,689,024; 9,695,468; and 9,856,530. Id. The Commission's notice of investigation named as the sole respondent Bio-Rad Laboratories, Inc. of Hercules, CA (“Bio-Rad”). Id. The Office of Unfair Import Investigations participated in this investigation. Id.

On February 12, 2020, the Commission issued its opinion and final determination in this investigation, which found Bio-Rad in violation of section 337. The Commission also issued remedial orders on that date and set a bond of twenty-five percent (25%) of the entered value of the articles subject to the remedial orders during the period of Presidential review. Pursuant to that bond provision, Bio-Rad posted bond in the amount of $6,554.68.

On July 26, 2021, Bio-Rad agreed to a settlement resolving the dispute in this investigation. Pursuant to a joint request by Bio-Rad and 10X, the Commission reviewed the settlement agreement and issued an order rescinding the remedial orders in this investigation on August 25, 2021. See 86 FR 48441-42 (Aug. 30, 2021).

On July 28, 2021, shortly after entering the settlement agreement with 10X, Bio-Rad moved without opposition for the return of its bond. On October 21, 2021, the presiding ALJ issued the subject ID, which granted Bio-Rad's motion. No petitions for review of that ID have been received.

The Commission has determined not to review the subject ID. The bond at issue is ordered to be returned to Bio-Rad.

The Commission vote for this determination took place on December 6, 2021.

The authority for the Commission's determination is contained in section 337 of the Tariff Act of 1930, as amended (19 U.S.C. 1337), and in Part 210 of the Commission's Rules of Practice and Procedure (19 CFR part 210).

By order of the Commission.
Issued: December 6, 2021.
Lisa Barton,
Secretary to the Commission.

[FR Doc. 2021-26717 Filed 12-9-21; 8:45 am]

BILLING CODE 7020-02-P